DEPARTMENT OF HOMELAND SECURITY

Bureau of Customs and Border Protection

New Date for October 2003 Customs Brokers License Examination

AGENCY: Customs and Border Protection, Department of Homeland Security.

ACTION: General notice.

SUMMARY: This document announces that Customs and Border Protection has changed the date on which the semi-annual written examination for an individual's broker's license will be held in October 2003.

DATES: The customs broker's license examination scheduled for October 2003 will be held on Tuesday, October 7.

FOR FURTHER INFORMATION CONTACT: Alice Buchanan, Office of Field Operations (202-927-2673).

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of broker's licenses and permits, and provides for the taking of disciplinary action against brokers that have engaged in specified types of infractions. In the case of an applicant for an individual broker's license, section 641 provides that an examination may be conducted to determine the applicant's qualifications for a license.

The regulations issued under the authority of section 641 are set forth in part 111 of the Customs Regulations (19 CFR part 111). Part 111 includes detailed rules regarding the licensing of, and granting of permits to, persons desiring to transact customs business as customs brokers, including the qualifications required of applicants and the procedures for applying for licenses and permits. Section 111.11 sets forth the basic requirements for a broker's license and, in paragraph (a)(4), provides that an applicant for an individual broker's license must attain a passing grade on a written examination taken within the 3-year period before submission of the license application prescribed under § 111.12. Section 111.13 sets forth the requirements and procedures for the written examination for an individual broker's license. Paragraph (b) of § 111.13 concerns the date and place of the examination and, prior to the recent amendment to the Customs Regulations discussed below, provided that written customs broker license examinations were given on the first Monday in April and October.

Recognizing that the first Monday in October 2003 (October 6) coincides with the observance of Yom Kippur, Customs and Border Protection (CBP) published in the Federal Register (68 FR 31976) on May 29, 2003, an interim rulemaking allowing for the adoption of alternative examination dates in order to avoid conflicts with national holidays, religious observances, and other foreseeable events. Section 111.13(b) was amended to provide that CBP, in those circumstances, could publish a notice in the Federal Register changing the examination date from its usual timing. Accordingly, this document announces that CBP has scheduled the October 2003 customs broker's license examination for Tuesday, October 7.

Dated: June 30, 2003.
Jayson P. Ahern,
Assistant Commissioner, Office of Field Operations.

[FR Doc. 03-16952 Filed 7-3-03; 8:45 am]

BILLING CODE 4820-02-P